DEPARTMENT OF ENERGY

Federal Energy Regulatory Commission

[Docket No. EL01-36-000]

Coral Power, L.L.C., Enron Power Marketing, Inc., Arizona Public Service Company, Cargill-Alliant, LLC, San Diego Gas & Electric Company, Avista Energy, Inc., Sempra Energy Trading Corp., PacifiCorp, Constellation Power Source, Complainants, v. California Power Exchange Corporation, Respondent; Notice of Complaint

February 12, 2001.

Take notice that on February 8, 2001, Coral Power, L.L.C., Enron Power Marketing, Inc., Arizona Public Service Company, Cargill-Alliant, LLC, San Diego Gas & Electric Company, Avista Energy, Inc., L.L.C., Sempra Energy Trading Corp. PacifiCorp, and Constellation Power Source (Complainants) filed a complaint and request for expedited relief under Section 206 of the Federal Power Act, 16 U.S.C. 824e (1994), and Section 206 of the Commission's Rules of Practice and Procedure, 18 CFR 385.206, seeking a determination that attempts being made by the California Power Exchange Corporation (CalPX) to chargeback to sellers into the CalPX market pursuant to Section 5.3 of Schedule 2 of the CalPX Tariff for defaults of Southern California Edison Company (SCE) and other defaulting parties are unauthorized by the CalPX Tariff and are unjust and unreasonable under current circumstances in California.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before February 28, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before February 28, 2001.

Linwood A. Watson, Jr.,
Acting Secretary.

[FR Doc. 01-3912 Filed 2-15-01; 8:45 am]

BILLING CODE 6717-01-U